DEPARTMENT OF JUSTICE

Notice of Lodging of Proposed Consent Decree Under the Clean Water Act

On November 20, 2023, the Department of Justice lodged a proposed Consent Decree (“Decree”) with the United States District Court for the Western District of Washington in the lawsuit entitled United States v. Electron Hydro, LLC, and Thom A. Fischer, Civil Action No. 2:20-CV-1746-JCC.

The proposed Decree will resolve alleged violations of the Clean Water Act arising from Electron Hydro, LLC's, and Thom A. Fischer's (“Defendants”) construction activity at a hydroelectric facility on the Puyallup River in Pierce County, Washington, including illegal discharges into waters of the United States and violations of U.S. Army Corps of Engineers and State of Washington permits. Under the terms of the Decree, Defendants will pay a civil penalty of $1.025 million, conduct surveys of stretches of the Puyallup River to recover discharged materials, implement best management practices at their construction site, hire a separate firm to review upcoming permit application materials, and place a 72-acre parcel of Electron's land into conservation in perpetuity.

The publication of this notice opens a period for public comment on the Decree. Comments should be addressed to the Assistant Attorney General, Environment and Natural Resources Division, and should refer to United States v. Electron Hydro et al., D.J. Ref. No. 90-5-1-1-12395. All comments must be submitted no later than forty-five (45) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Decree may be examined and downloaded at this Justice Department website: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $18.25 (25 cents per page reproduction cost) payable to the United States Treasury.

Kathryn C. Macdonald,
Assistant Section Chief, Environmental Enforcement Section, Environment and Natural Resources Division.

[FR Doc. 2023-26150 Filed 11-27-23; 8:45 am]

BILLING CODE 4410-15-P